DEPARTMENT OF JUSTICE

[AAG/A Order No. 018-2005]

Privacy Act of 1974; Modification of System of Records

Pursuant to the provisions of the Privacy Act of 1974, 5 U.S.C. 552a, notice is given that the Department of Justice proposes to modify the Departmentwide system of records entitled, “Department of Justice Regional Data Exchange System (RDEX)” DOJ-012, previously published in full text in the Federal Register on July 11, 2005 (70 FR 39790).

This system is being modified as follows:

(1) The Categories Of Individuals Covered By The System And The Categories Of Records In The System are being modified to reflect that information in RDEX that originated with the Bureau of Alcohol, Tobacco, Firearms, and Explosives (ATF), the Drug Enforcement Administration (DEA), and the Federal Bureau of Investigation (FBI) will no longer be limited to information from the State of Washington field offices of those components. This modification is necessary due to the expansion of the RDEX pilot project to include other regional sharing initiatives;

(2) The Purpose Of the System is being modified to reflect that in addition to consolidating certain law enforcement information from other Department of Justice systems, in some instances RDEX will include information from such other systems that has been structured in order to facilitate sharing initiatives; and

(3) The System Managers and Addresses portion of the notice is being modified to reflect that requests for information about the RDEX system generally should be sent to the FBI rather than the Chief Information Officer, Justice Management Division, as it was subsequently determined that the FBI would serve as the system and security administrator for RDEX.

The RDEX system is part of the Department's Law Enforcement Information Sharing Program (LEISP). The expansion of the RDEX pilot program to include other regional sharing initiatives and the concomitant modifications to the RDEX system notice to reflect such expansion serve to further the LEISP's principal purpose of ensuring that Department of Justice criminal law enforcement information is available for users at all levels of government so that they can more effectively investigate, disrupt, and deter criminal activity, including terrorism, and protect the national security.

The Department is providing a report of this modification to OMB and Congress.

Dated: November 22, 2005.
Paul R. Corts,
Assistant Attorney General for Administration.

DOJ-012

SYSTEM NAME:

Department of Justice Regional Data Exchange System (RDEX).

* * * * *

CATEGORIES OF INDIVIDUALS COVERED BY THE SYSTEM:

Individuals covered by this system include individuals who are referred to in potential or actual cases or matters of concern to the Federal Bureau of Prisons (BOP), the United States Marshals Service (USMS), the Bureau of Alcohol, Tobacco, Firearms, and Explosives (ATF), the Drug Enforcement Administration (DEA), and the Federal Bureau of Investigation (FBI). Because the system contains audit logs regarding queries, individuals who use the system to conduct such queries are also covered.

CATEGORIES OF RECORDS IN THE SYSTEM:

The system consists of unclassified criminal law enforcement records collected and produced by the BOP, the USMS, the ATF, the DEA, and the FBI, including: investigative reports and witness interviews from both open and closed cases; criminal event data (e.g., characteristics of criminal activities and incidents that identify links or patterns); criminal history information (e.g., history of arrests, nature and disposition of criminal charges, sentencing, confinement, and release); and identifying information about criminal offenders (e.g., name, address, date of birth, birthplace, physical description). The system also consists of audit logs that contain information regarding queries made of the system.

* * * * *

PURPOSE OF THE SYSTEM:

This system is maintained for the purpose of ensuring that Department of Justice criminal law enforcement information is available for users at all levels of government so that they can more effectively investigate, disrupt, and deter criminal activity, including terrorism, and protect the national security. RDEX furthers this purpose by consolidating, and in some instances structuring, certain law enforcement information from other Department of Justice systems in order that it may more readily be available for sharing with other law enforcement entities.

* * * * *

SYSTEM MANAGERS AND ADDRESSES:

[Replace first paragraph with the following:]

For the RDEX system generally: Director, Federal Bureau of Investigation, 935 Pennsylvania Avenue, NW., Washington, DC 20535.

[Other system managers remain the same.]

* * * * *

[FR Doc. E5-6739 Filed 12-1-05; 8:45 am]

BILLING CODE 4410-FB-P